CONSUMER PRODUCT SAFETY COMMISSION

[Docket No. CPSC-2019-0033]

CPSC Forum on Crib Bumpers

AGENCY: Consumer Product Safety Commission.

ACTION: Announcement of meeting.

SUMMARY: The Consumer Product Safety Commission (CPSC) is announcing a public forum on crib bumpers. We invite interested parties to attend the forum and make presentations.

DATES: The forum will begin at 10:00 a.m. on January 22, 2020. The Commission forum also will be available through webcast. However, viewers will not be able to interact with the panels and presenters through the webcast. Individuals interested in presenting information at the forum should submit a summary of their presentation, as well as a brief biography, by January 6, 2020. Written comments will be received until February 25, 2020.

ADDRESSES: The forum will be held in the Hearing Room at CPSC's headquarters at: 4330 East West Highway, Bethesda, MD 20814. There is no charge to attend the forum.

Requests to make oral presentations, and the texts of oral presentations should be captioned: “CPSC Forum on Crib Bumpers,” and sent by email to cpsc-os@cpsc.gov, or mailed or delivered to the Division of the Secretariat, Consumer Product Safety Commission, 4330 East-West Highway, Bethesda, MD 20814, no later than 5 p.m. on January 6, 2020.

You may submit written comments, identified by Docket No. [CPSC-2019-0033], by any of the following methods:

Electronic Submissions: Submit electronic comments to the Federal eRulemaking Portal at: www.regulations.gov. Follow the instructions for submitting comments. The Commission does not accept comments submitted by email, except through www.regulations.gov. The Commission encourages you to submit electronic comments by using the Federal eRulemaking Portal, as described above.

Paper Submissions: Send paper submissions by mail/hand delivery/courier to: Division of the Secretariat, Consumer Product Safety Commission, Room 820, 4330 East-West Highway, Bethesda, MD 20814; telephone (301)-504-7923.

Instructions: All submissions received must include the agency name and docket number for this notice. All comments received may be posted without change, including any personal identifiers, contact information, or other personal information provided, to: www.regulations.gov. Do not submit confidential business information, trade secret information, or other sensitive or protected information that you do not want to be available to the public. If furnished at all, such information should be submitted in accordance with the directions for paper submissions above.

Docket: For access to the docket to read comments received, go to: www.regulations.gov, and insert the docket number CPSC-2019-0033 into the “Search” box, and follow the prompts.

FOR FURTHER INFORMATION CONTACT: Alberta E. Mills, Division of the Secretariat, Office of the General Counsel, Consumer Product Safety Commission, 4330 East West Highway, Bethesda, MD 20814; telephone 301-504-7479; email: amills@cpsc.gov.

SUPPLEMENTARY INFORMATION:

I. Background

For several years, CPSC has been studying the potential risks associated with crib bumpers. In May 2012, the Juvenile Products Manufacturers Associated (JPMA) submitted a petition asking the Commission to initiate rulemaking under sections 7 and 9 of the Consumer Product Safety Act (CPSA) to distinguish “hazardous pillow-like” crib bumpers from “non-hazardous traditional” crib bumpers. In 2013, the Commission voted to grant the petition and provided specific direction to staff. In the FY 2017 Operating Plan, the Commission directed staff to develop a proposed standard under section 104 of the Consumer Product Safety Improvement Act of 2008 (CPSIA). On September 4, 2019, in response to this direction, CPSC staff submitted a briefing package, including a draft proposed rule, for crib bumpers/liners. [https://www.cpsc.gov/s3fs-public/Proposed%20Rule%20-%20Safety%20Standard%20for%20Crib%20Bumpers-Liners%20Under%20the%20Danny%20..__0.pdf].

II. The Forum

A. Topics for Discussion

The Commission would like to hear comments and information from interested parties concerning the potential hazards associated with crib bumpers. The goal of the forum is to hear from the public about their views of the potential hazards associated with crib bumpers and their suggestions for ways to address those hazards. In addition to these general issues, the Commission invites comments on the following, more specific topics:

1. The utility/benefit of crib bumpers, including, but not limited to:

(a) Whether babies suffer head injuries from crib slats without crib bumpers; and

(b) whether babies suffer limb injuries from entrapment in crib slats without crib bumpers.

2. Consumers' understanding of the “Bare is Best” safety messaging related to infant sleep safety, including, but not limited to, whether consumers consider the presence of crib bumpers to be consistent with that messaging.

3. Any current or proposed state laws relating to crib bumpers, and whether and how those laws reflect or conflict with staff's recommendation.

4. Any performance requirements and test methods for crib bumpers (or similar crib accessories) relevant to the identification and elimination of suffocation hazards, including, but not limited to:

(a) Air permeability;

(b) Firmness or the conforming of bumper materials to the facial features of infants, and

(c) Any other aspects of crib bumpers (or similar crib accessories).

5. The potential effects of the preemption of state and local laws addressing crib bumpers.

B. How To Make a Presentation, Attend, or Provide Written Comments

The forum will be held at 10 a.m. on January 22, 2020, at the CPSC's office in Bethesda, MD (see the ADDRESSES section of this notice for more information). The Commission forum will also be available through a webcast, but viewers will not be able to interact with the panels and presenters through the webcast.

• If you would like to make an oral presentation at the forum, please send an email to cpsc-os@cpsc.gov by January 6, 2020, with a summary of your presentation, as well as a brief biography. Presentations should be limited to approximately 10 minutes. The Commission reserves the right to impose further time limitations or other restrictions, if needed, to avoid duplication of presentations.

• If you would like to provide written comments, please follow the instructions in the ADDRESSES section of this notice.

Abioye E. Mosheim,
Acting Secretary, U.S. Consumer Product Safety Commission.

[FR Doc. 2019-25890 Filed 11-27-19; 8:45 am]

BILLING CODE 6355-01-P